DEPARTMENT OF ENERGY

Federal Energy Regulatory Commission

Combined Notice of Filings #1

Take notice that the Commission received the following exempt wholesale generator filings:

Docket Numbers: EG19-141-000.

Applicants: SR Meridian III, LLC.

Description: Notice of Self-Certification of Exempt Wholesale Generator Status of SR Meridian III, LLC.

Filed Date: 6/21/19.

Accession Number: 20190621-5189.

Comments Due: 5 p.m. ET 7/12/19.

Take notice that the Commission received the following electric rate filings:

Docket Numbers: ER10-2126-005.

Applicants: Idaho Power Company.

Description: Updated Market Power Analysis for the Northwest Region of Idaho Power Company.

Filed Date: 6/21/19.

Accession Number: 20190621-5180.

Comments Due: 5 p.m. ET 8/20/19.

Docket Numbers: ER11-2105-003.

Applicants: Oklahoma Gas and Electric Company.

Description: Notice of Non-Material Change in Status of Oklahoma Gas and Electric Company.

Filed Date: 6/21/19.

Accession Number: 20190621-5184.

Comments Due: 5 p.m. ET 7/12/19.

Docket Numbers: ER15-1682-008.

Applicants: TransCanyon DCR, LLC.

Description: Compliance filing: Amended Formula Rate Templace Second Compliance Filing for ADIT to be effective 6/27/2018.

Filed Date: 6/24/19.

Accession Number: 20190624-5106.

Comments Due: 5 p.m. ET 7/15/19.

Docket Numbers: ER17-802-005.

Applicants: Exelon Generation Company, LLC.

Description: Compliance filing: Informational Filing Regarding Three Mile Island Unit Retirement to be effective N/A.

Filed Date: 6/21/19.

Accession Number: 20190621-5081.

Comments Due: 5 p.m. ET 7/12/19.

Docket Numbers: ER19-1826-001.

Applicants: Bolt Energy, LLC.

Description: Tariff Amendment: MBR Tariff to be effective 6/12/2019.

Filed Date: 6/24/19.

Accession Number: 20190624-5117.

Comments Due: 5 p.m. ET 7/15/19.

Docket Numbers: ER19-2234-000.

Applicants: Southwest Power Pool, Inc.

Description: § 205(d) Rate Filing: 1276R20 KCPL NITSA NOA to be effective 9/1/2019.

Filed Date: 6/24/19.

Accession Number: 20190624-5015.

Comments Due: 5 p.m. ET 7/15/19.

Docket Numbers: ER19-2235-000.

Applicants: Tuscola Bay Wind, LLC.

Description: Baseline eTariff Filing: Reactive Power Compensation Baseline to be effective 8/23/2019.

Filed Date: 6/24/19.

Accession Number: 20190624-5044.

Comments Due: 5 p.m. ET 7/15/19.

Docket Numbers: ER19-2236-000.

Applicants: Southwest Power Pool, Inc.

Description: § 205(d) Rate Filing: 2415R12 Kansas Municipal Energy Agency NITSA NOA to be effective 9/1/2019.

Filed Date: 6/24/19.

Accession Number: 20190624-5054.

Comments Due: 5 p.m. ET 7/15/19.

Docket Numbers: ER19-2237-000.

Applicants: Public Service Company of Colorado.

Description: § 205(d) Rate Filing: PSCo-TSGT-Utility Svcs Agrmt-379-Exhibit D-0.1.0 to be effective 6/25/2019.

Filed Date: 6/24/19.

Accession Number: 20190624-5056.

Comments Due: 5 p.m. ET 7/15/19.

Docket Numbers: ER19-2238-000.

Applicants: NorthWestern Corporation.

Description: § 205(d) Rate Filing: Revised Rate Schedule No. 188 (MT)—Colstrip 1 & 2 Transmission Agreement to be effective 9/1/2019.

Filed Date: 6/24/19.

Accession Number: 20190624-5074.

Comments Due: 5 p.m. ET 7/15/19.

Docket Numbers: ER19-2239-000.

Applicants: AES Shady Point, LLC.

Description: Tariff Cancellation: AES Shady Point Notice of Tariff Cancellation to be effective 6/25/2019.

Filed Date: 6/24/19.

Accession Number: 20190624-5116.

Comments Due: 5 p.m. ET 7/15/19.

Docket Numbers: ER19-2240-000.

Applicants: PJM Interconnection, L.L.C.

Description: § 205(d) Rate Filing: Revisions to the OATT and OA re FTR Hourly Cost Calculation Update to be effective 9/1/2019.

Filed Date: 6/24/19.

Accession Number: 20190624-5152.

Comments Due: 5 p.m. ET 7/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2019.
Nathaniel J. Davis, Sr.,
Deputy Secretary.

[FR Doc. 2019-13845 Filed 6-27-19; 8:45 am]

BILLING CODE 6717-01-P